DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; Revision of a currently approved collection; OMB No. 1660-0006; FEMA Form 086-0-1, Flood Insurance Application, FEMA Form 086-0-2, Flood Insurance Cancellation/Nullification Request Form, FEMA Form 086-0-3, Flood Insurance General Change Endorsement, FEMA Form 086-0-5, Flood Insurance Preferred Risk Policy Application, FEMA Form 086-0-4, V-Zone Risk Factor Rating Form and Instructions.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the application process for property owners to obtain insurance coverage under the National Flood Insurance Program (NFIP).

DATES: Comments must be submitted on or before April 20, 2009.

ADDRESSES: To avoid duplicate submissions to the docket, please use only one of the following means to submit comments:

(1) Online. Submit comments at http://www.regulations.gov under docket ID FEMA-2009-0001. Follow the instructions for submitting comments.

(2) Mail. Submit written comments to Office of Management, Records Management Division, Federal Emergency Management Agency, 500 C Street, SW., Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Mary Ann Chang, Mitigation Directorate, FEMA, 703-605-0421 for additional information. You may contact the Records Management Branch for copies of the proposed collection of information at facsimile number (202) 646-3347 or e-mail address: FEMA-Information-Collections@dhs.gov.

SUPPLEMENTARY INFORMATION: The National Flood Insurance Program (NFIP) is authorized by Public Law 90-448 (1968) and expanded by Public Law 93-234 (1973). The National Flood Insurance Act of 1968 requires that the Federal Emergency Management Agency (FEMA) provided flood insurance at full actuarial rates reflecting the complete flood risk to structures built or substantially improved on or after the effective date for the initial Flood Insurance Rate Map (FIRM) for the community, or after December 31, 1974, whichever is later, so that the risks associated with buildings in flood-prone areas are borne by those located in such areas and not by the taxpayers at large. In accordance with Public Law 93-234, the purchase of flood insurance is mandatory when Federal or federally related financial assistance is being provided for acquisition or construction of buildings located, or to be located, within FEMA-identified special flood hazard areas of communities that are participating in the NFIP.

Collection of Information

Title: National Flood Insurance Program Policy Forms.

Type of Information Collection: Revision of a currently approved collection.

OMB Number: 1660-0006.

Form Titles and Numbers: FEMA Form 086-0-1, Flood Insurance Application, FEMA Form 086-0-2, Flood Insurance Cancellation/Nullification Request Form, FEMA Form 086-0-3, Flood Insurance General Change Endorsement, FEMA Form 086-0-5, Flood Insurance Preferred Risk Policy Application, FEMA Form 086-0-4, V-Zone Risk Factor Rating Form and Instructions.

Abstract: In order to provide for the availability of policies for flood insurance, policies are marketed through the facilities of licensed insurance agents or brokers in the various States. Applications from agents or brokers are forwarded to a servicing company designated as fiscal agent by FIA. Upon receipt and examination of the application and required premium, the servicing company issues the appropriate Federal flood insurance policy.

Affected Public: Individual and Households, Business or other for-profit, Farms, State, Local or Tribal Government.

Estimated Total Annual Burden Hours: 9,480.58 hours.

Table A.12 Estimated Annualized Burden Hours and Costs
Type of respondent | Form name/form number | Number of respondents | Number of responses per respondent | Average burden per response (in hours) | Total annual burden (in hours) | Average hourly wage rate | Total annual respondent cost
Individual and Household, Business or other for profit, Not-for-profit institutions, Farms, State, Local or Tribal Government (Property Owner) | Flood Insurance Application/FEMA Form 086-0-1 | 5,859 | 1 | .2 (12 Minutes) | 1,171.8 (70,308 Minutes) | $19.56 | $22,920.41
Individual and Household, Business or other for profit, Not-for-profit institutions, Farms, State, Local or Tribal Government (Property Owner) | Flood Insurance Cancellation/Nullification Request Form/FEMA Form 086-0-2 | 2,958 | 1 | .125 (7.5 Minutes) | 369.75 (22,185 Minutes) | 19.56 | 7,232.31
Individual and Household, Business or other for profit, Not-for-profit institutions, Farms, State, Local or Tribal Government (Property Owner) | Flood Insurance General Change Endorsement/FEMA Form 086-0-3 | 19,920 | 1 | .15 (9 Minutes) | 2,988 (179,280 Minutes) | 19.56 | 58,445.28
Individual and Household, Business or other for profit, Not-for-profit institutions, Farms, State, Local or Tribal Government (Property Owner) | Flood Insurance Preferred Risk Application/FEMA Form 086-0-5 | 1,090 | 1 | .133 (8 Minutes) | 145.33 (8,720 Minutes) | 19.56 | 2,842.72
Individual and Household, Business or other for profit, Not-for-profit institutions, Farms, State, Local or Tribal Government (Property Owner) | Renewal Premium Notice/No Form | 93,514 | 1 | .05 (3 Minutes) | 4,675.7 (280,542 Minutes) | 19.56 | 91,456.69
Business or other for profit (Surveyors) | V-Zone Risk Factor Rating Form and Instructions/FEMA Form 086-0-4 (including reference to the Coastal Construction Manual CD) | 20 | 1 | 6.5 (390 Minutes) | 130 (7,800 Minutes) | 33.11 | 4,304.30
Total |  | 123,361 |  |  | 9,480.58 |  | 187,201.71

Estimated Cost: The estimated annualized cost to respondents based on wage rate categories is $187,201.71. The estimated annual cost to respondents resulting from the contracting out of information collection services for FEMA Form 81-25 is $13,000. The estimated annual cost to the Federal Government is $6,520,346.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division,Office of Management, Federal Emergency Management Agency, Department of Homeland Security.

[FR Doc. E9-3172 Filed 2-13-09; 8:45 am]

BILLING CODE 9111-52-P